DEPARTMENT OF COMMERCE

International Trade Administration

[A-570-504]

Petroleum Wax Candles From the People's Republic of China: Rescission of Antidumping Duty Administrative Review

AGENCY: Import Administration, International Trade Administration, U.S. Department of Commerce

SUMMARY: The Department of Commerce (the Department) is rescinding its administrative review of Qingdao Kingking Applied Chemistry Ltd., Co. (Kingking) under the antidumping duty order on petroleum wax candles from the People's Republic of China (PRC) for the period August 1, 2002 through July 31, 2003. This rescission is based on the withdrawal of requests for review by the National Candle Association (petitioner) and Kingking.

EFFECTIVE DATE: April 9, 2004.

FOR FURTHER INFORMATION CONTACT: Mark Hoadley or Sebastian Wright (202) 482-0162 and (202) 482-5254, respectively, Office of AD/CVD Enforcement VII, Import Administration, International Trade Administration, U.S. Department of Commerce, 14th Street and Constitution Avenue, NW., Washington, DC 20230.

SUPPLEMENTARY INFORMATION:

Background

The Department published in the Federal Register an antidumping duty order on petroleum wax candles from the PRC on August 28, 1986 (51 FR 30686). Pursuant to its Notice of Opportunity to Request an Administrative Review, 68 FR 45218 (August 1, 2003), and in accordance with section 751(a)(1)(B) of the Act and § 351.213(b) of the Department's regulations, the Department received a timely request by the petitioner to conduct an administrative review of the antidumping duty order on petroleum wax candles from the PRC for 23 companies, including Kingking. Kingking also requested a review.

On September 30, 2003, the Department published its Notice of Initiation of Antidumping and Countervailing Duty Administrative Reviews, Requests for Revocation in Part and Deferral of Administrative Review, 68 FR 56262 (September 30, 2003) (Initiation Notice), initiating on all 23 candle companies for which a review was requested. On December 24, 2003, the Department received a withdrawal from the petitioner of its request for a review of all 23 companies for which it had requested a review. Consequently, on January 27, 2004, the Department rescinded the review, in part, for 21 of the 23 companies; the Department did not rescind the review with respect to Dongguan Fay Candle Co., Ltd. (Fay Candle) or Kingking since these companies had each requested its own review as well. See Petroleum Wax Candles from the People's Republic of China: Rescission, in Part, of Antidumping Duty Administrative Review, 69 FR 6258 (February 10, 2004). On January 26, 2004, Fay Candle withdrew its request for a review. On March 3, 2004, the Department rescinded the review, in part, for Fay Candle. See Petroleum Wax candles from the People's Republic of China, Rescission, in Part, of Antidumping Duty Administrative Review, 69 FR 12302 (March 16, 2004). In a letter dated February 26, 2004, and received by the Department on March 2, 2004, Kingking then withdrew its request for a review.

Rescission of Administrative Review

Pursuant to § 351.213(d)(1) of the Department's regulations, the Department may rescind an administrative review, “if a party that requested the review withdraws the request within 90 days of the date of publication of notice of initiation of the requested review.” The petitioner's request for the withdrawal of the review with respect to Kingking was received within the 90-day period as specified in § 351.213(d)(1). Kingking's request for withdrawal was received after the end of this period. However, the Department is authorized to extend this deadline if it decides that doing so is reasonable. See § 351.213(d)(1). Although Kingking submitted its withdrawal request more than 90 days after the initiation publication date, the Department has decided that it is reasonable to extend the deadline and accept the request. The petitioner and Kingking were the only parties to request this review, and the review has not progressed to a point where it would be unreasonable to allow parties to withdraw their requests for review. See e.g., Certain In-Shell Raw Pistachios from Iran: Rescission of Antidumping Duty Administrative Review, 68 FR 16764 (April 7, 2003). Additionally, we conclude that this withdrawal does not constitute an “abuse” of our procedures. See Antidumping Duties; Countervailing Duties; Final Rule, 62 FR 27296, 27317 (May 19, 1997).

Therefore, we are rescinding this administrative review with respect to Kingking for the period August 1, 2002 to July 31, 2003. Because all of the parties who requested reviews for this review period have now withdrawn their requests for review, the Department with this notice has now rescinded the review with respect to all of the companies on which it initiated an administrative review for the period August 1, 2002 through July 31, 2003.

The Department will issue appropriate assessment instructions directly to U.S. Customs and Border Protection (CBP) within 15 days of the publication of this notice. The Department will direct CBP to assess antidumping duties for Kingking at the cash deposit rate in effect on the date of entry for entries during the period August 1, 2002 through July 31, 2003.

Notification to Parties

This notice serves as a reminder to importers of their responsibility under § 351.402(f) of the Department's regulations to file a certificate regarding the reimbursement of antidumping duties prior to liquidation of the relevant entries during this period of time. Failure to comply with this requirement could result in the Secretary's presumption that reimbursement of antidumping duties occurred and subsequent assessment of double antidumping duties.

This notice also serves as a reminder to parties subject to administrative protective order (APO) of their responsibility concerning the disposition of proprietary information disclosed under APO in accordance with § 351.305(a) of the Department's regulations. Timely written notification of the return or destruction of APO materials or conversion to judicial protective order is hereby requested. Failure to comply with the regulations and terms of an APO is a sanctionable violation.

This notice is issued and published in accordance with § 351.213(d)(4) of the Department's regulations and sections 751(a)(1) and 777(I)(1) of the Tariff Act of 1930, as amended.

Dated: March 31, 2004.
Jeffrey May,
Acting Assistant Secretary for Import Administration.

[FR Doc. 04-8118 Filed 4-8-04; 8:45 am]

BILLING CODE 3510-DS-P